DEPARTMENT OF THE TREASURY

Office of Thrift Supervision

Submission for OMB Review; Comment Request—Consumer Protections for Depository Institution Sales of Insurance

AGENCY: Office of Thrift Supervision (OTS), Treasury.

ACTION: Notice and request for comment.

SUMMARY: The proposed information collection requirement described below has been submitted to the Office of Management and Budget (OMB) for review and approval, as required by the Paperwork Reduction Act of 1995. OTS is soliciting public comments on the proposal.

DATES: Submit written comments on or before July 23, 2007.

ADDRESSES: Send comments, referring to the collection by title of the proposal or by OMB approval number, to OMB and OTS at these addresses: Office of Information and Regulatory Affairs, Attention: Desk Officer for OTS, U.S. Office of Management and Budget, 725-17th Street, NW., Room 10235, Washington, DC 20503, or by fax to (202) 395-6974; and Information Collection Comments, Chief Counsel's Office, Office of Thrift Supervision, 1700 G Street, NW., Washington, DC 20552, by fax to (202) 906-6518, or by e-mail to infocollection.comments@ots.treas.gov. OTS will post comments and the related index on the OTS Internet Site at http://www.ots.treas.gov. In addition, interested persons may inspect comments at the Public Reading Room, 1700 G Street, NW., by appointment. To make an appointment, call (202) 906-5922, send an e-mail to public.info@ots.treas.gov, or send a facsimile transmission to (202) 906-7755.

FOR FURTHER INFORMATION CONTACT: For further information or to obtain a copy of the submission to OMB, please contact Marilyn K. Burton at marilyn.burton@ots.treas.gov, (202) 906-6467, or facsimile number (202) 906-6518, Litigation Division, Chief Counsel's Office, Office of Thrift Supervision, 1700 G Street, NW., Washington, DC 20552.

SUPPLEMENTARY INFORMATION: OTS may not conduct or sponsor an information collection, and respondents are not required to respond to an information collection, unless the information collection displays a currently valid OMB control number. As part of the approval process, we invite comments on the following information collection.

Title of Proposal: Consumer Protections for Depository Institution Sales of Insurance.

OMB Number: 1550-0106.

Form Number: N/A.

Regulation requirement: 12 CFR part 536.

Description: This submission covers an extension of OTS's currently approved information collection in its regulation found at 12 CFR part 536. This submission involves no change to the regulations or to the information collections embodied in the regulations.

The information collections contained in the regulations are as follows:

12 CFR 536.40(a). Savings associations must make insurance disclosures in connection with the initial purchase of an insurance product. The disclosure must be made orally and in writing to the consumer that: (1) The insurance product or annuity is not a deposit or other obligation of, or guaranteed by, a savings association or an affiliate of a savings association; (2) the insurance product or annuity is not insured by the FDIC or any other agency of the United States, a savings association, or (if applicable) an affiliate of a savings association; and (3) in the case of an insurance product or annuity that involves an investment risk, there is investment risk associated with the product, including the possible loss of value.

12 CFR 536.40(b). Savings associations must make a disclosure at the time a consumer applies for an extension of credit in connection with which an insurance product or annuity is solicited, offered, or sold. The disclosure must be made orally and in writing that a savings association may not condition an extension of credit on either: (1) The consumer's purchase of an insurance product or annuity from a savings association or any of its affiliates; or (2) the consumer's agreement not to obtain, or a prohibition on the consumer from obtaining, an insurance product or annuity from an unaffiliated entity.

Type of Review: Renewal.

Affected Public: Businesses or other for-profit; individuals.

Estimated Number of Respondents: 845.

Estimated Number of Responses: 841,826.

Estimated Frequency of Response: On occasion.

Estimated Total Burden: 21,046 hours.

Clearance Officer: Marilyn K. Burton, (202) 906-6467, Office of Thrift Supervision, 1700 G Street, NW., Washington, DC 20552.

OMB Reviewer: Desk Officer for OTS, Fax: (202) 395-6974, U.S. Office of Management and Budget, 725-17th Street, NW., Room 10235, Washington, DC 20503.

Dated: June 13, 2007.
Deborah Dakin,
Senior Deputy Chief Counsel, Regulations and Legislation Division.

[FR Doc. E7-12040 Filed 6-20-07; 8:45 am]

BILLING CODE 6720-01-P